DEPARTMENT OF LABOR

Wage and Hour Division

Special Industry Committee for All Industries in American Samoa; Cancellation

I hereby discharge the Industry Committee that I appointed and convened on May 10, 2007, (72 FR 27337) because of provisions contained in section 8103 of the U.S. Troop Readiness, Veterans' Care, Katrina Recovery, and Iraq Accountability Appropriations Act of 2007 (“the Act”) that repeal current sections 5, 6(a)(3), and 8 of the Fair Labor Standards Act, as amended, (FLSA) (29 U.S.C. 205, 206(a)(3), and 208), effective July 24, 2007. The Act sets forth statutory requirements providing that the minimum wage applicable to American Samoa under the FLSA shall be—

(1) The applicable wage rate in effect for each industry and classification under 29 CFR part 697 on May 25, 2007;

(2) Increased by $0.50 an hour, beginning on July 24, 2007; and

(3) Increased by $0.50 an hour (or such lesser amount as may be necessary to equal the minimum wage under FLSA section 6(a)(1), beginning on May 25, 2008, and each year thereafter until the minimum wage applicable to American Samoa is equal to the general minimum wage set forth in FLSA section 6(a)(1) (29 U.S.C. 206(a)(1)).

In addition, the repeal of the FLSA provisions mentioned above removes the Department of Labor's authority to convene American Samoa Industry Committees.

Signed in Washington, DC, this 8th day of June, 2007.
Elaine L. Chao,
Secretary of Labor.

[FR Doc. E7-11520 Filed 6-12-07; 8:45 am]

BILLING CODE 4510-27-P